DEPARTMENT OF TRANSPORTATION

National Highway Traffic Safety Administration

[Docket No. NHTSA 2001-8677; Notice 2]

Reports, Forms, and Recordkeeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on the proposed collection of information.

This document describes a proposed collection of information under the “early warning reporting” provisions of the Transportation Recall Enhancement, Accountability, and Documentation (TREAD) Act and related recordkeeping provisions, for which NHTSA intends to seek OMB approval.

DATES: Comments must be received on or before August 26, 2002.

ADDRESSES: Comments must refer to the docket and notice numbers cited at the beginning of this notice and be submitted to Docket Management, Room PL-401, 400 Seventh Street SW., Washington, DC 20590. The Docket is open on weekdays from 9:30 a.m. to 5 p.m.

FOR FURTHER INFORMATION CONTACT: Mr. George Person, Office of Defects Investigation, NHTSA, 400 Seventh Street, SW., Room 5326, Washington, DC 20590. Mr. Person's telephone number is (202) 366-5210.

SUPPLEMENTARY INFORMATION: Under the Paperwork Reduction Act of 1995 (PRA), before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions;

(iii) How to enhance the quality, utility, and clarity of the information to be collected; and

(iv) How to minimize the burden of the collection of information on those who are to respond, including the use of appropriate automated, electronic, mechanical, or other technological collection techniques or other forms of information technology, e.g., permitting electronic submission of responses.

On December 21, 2001, NHTSA published a Notice of Proposed Rulemaking (NPRM) (66 FR 66190) in which it proposed to implement section 3(b) of the TREAD Act by requiring manufacturers of motor vehicles and motor vehicle equipment to submit certain information to aid NHTSA in promptly identifying possible safety-related defects. NHTSA is currently reviewing and analyzing the comments submitted in response to the NPRM and is developing its final rule, which may include revised requirements.

In compliance with PRA requirements, NHTSA is asking for public comment on the collections of information proposed in the NPRM, including proposed recordkeeping provisions. If the final rule is issued before the end of the 60-day comment period for this notice, it would be helpful if the comments in response to this notice addressed the requirements adopted in the final rule.

Reporting of Information and Documents About Potential Defects; Retention of Records That Could Indicate Defects

Type of Request—New Collection.

OMB Clearance Number—None.

Requested Expiration Date of Approval—Three years from effective date of final rule.

Summary of Collection of Information—Section 3(b) of the TREAD Act, codified at 49 U.S.C. 30166(m), provides for NHTSA to adopt rules that will require manufacturers of motor vehicles and motor vehicle equipment to submit certain information to NHTSA, including information about claims and notices about deaths and serious injuries, property damage data, communications to customers and others, and information on incidents resulting in fatalities or serious injuries from possible defects in vehicles or equipment in the United States or in identical or substantially similar vehicles or equipment in foreign countries. The statute also authorizes NHTSA to require the submission of other data that may assist in the identification of safety-related defects in vehicles and equipment. The agency issued an NPRM on December 21, 2001 (66 FR 66190) in which it proposed reporting and recordkeeping requirements to implement this section of the statute.

Description of the Need for the Information and Proposed Use of the Information—The intent of the legislation is to provide NHTSA with “early warning” of potential safety-related defects in motor vehicles and motor vehicle equipment. NHTSA will rely on the information provided under this rule (as well as other relevant information) in deciding whether to open defect investigations.

Description of the Likely Respondents (Including Estimated Number and Proposed Frequency of Responses to the Collection of Information)—All manufacturers of motor vehicles and motor vehicle equipment would be required to comply with quarterly reporting requirements. As discussed in detail in the NPRM, larger manufacturers of vehicles (those that produce, import, or sell 500 or more units annually in the United States), and all manufacturers of child restraint systems and tires, would be required to provide information about incidents identified in claims and notices involving deaths (and injuries in the United States). They would also have to report the number of property damage claims, consumer complaints, warranty claims, and field reports that address certain specified systems and components of their products. We estimate that 87 manufacturers fall within this group of relatively large manufacturers.

All other motor vehicle and motor vehicle equipment manufacturers would only have to report information about incidents identified in claims and notices involving deaths. We estimate that 23,500 manufacturers would fall within this group of smaller vehicle manufacturers and equipment manufacturers (other than tire or child restraint manufacturers).

All manufacturers (in both categories) would be required to submit copies of all documents sent or made available to more than one dealer, distributor, or owner in the United States with respect to consumer advisories, recalls, or activities involving the repair or replacement of vehicles or equipment. However, almost all of these documents must already be submitted to NHTSA under an existing regulation. See 49 CFR 573.8, which implements 49 U.S.C. 30166(f).

Estimate of the Total Annual Reporting and Recordkeeping Burden of the Collection of Information in the NPRM

The first group of approximately 87 manufacturers with relatively extensive quarterly reporting requirements would consist of 16 light vehicle manufacturers, 12 medium and heavy vehicle manufacturers, 19 bus manufacturers, 8 trailer manufacturers, 12 motorcycle manufacturers, 10 tire manufacturers, and 10 child restraint system manufacturers.

The second group of approximately 23,500 manufacturers would rarely, if ever, have to report information to the agency. This group includes manufacturers of motor vehicles that sold fewer than 500 vehicles in the United States, manufacturers of original motor vehicle equipment, and manufacturers of replacement motor vehicle equipment other than child restraint systems or tires. This second group would be only required to report information in the rare event that they received a claim or notice about an incident involving a death alleging or proving that the death was caused by a possible defect in the manufacturer's product. We estimated only 8 such incidents would need to be reported per year from that entire group.

NHTSA estimated the annual hours of burden under the NPRM proposals to be 957,004 hours in the first year and 18,041 hours in the second and third years. The first-year total consists of 938,963 first year start-up hours plus 18,041 first year reporting hours. Of the 938,963 hours, 596,760 hours are associated with computer start-up activities and 342,203 hours are to provide the historical data. The average burden over the first three years would be 331,030 hours.

In late 2001, NHTSA made some preliminary estimates of the burdens associated with the NPRM proposals. These were discussed in the preamble to the NPRM and in a Preliminary Regulatory Evaluation (PRE), which was issued at the same time and was available to the public. Several interested persons commented on those estimates in their comments on the NPRM. In addition, the Alliance of Automobile Manufacturers (Alliance), which represents most of the large light vehicle manufacturers, submitted supplemental estimates of the costs and burden hours associated with the NPRM requirements. The estimates in this notice have taken these comments into account.

The hours of burden were estimated based on three primary factors. First, NHTSA considered the specific burden hour estimates associated with the various NPRM requirements that were provided by the Alliance and modified them where appropriate. Second, based on the average number of vehicles involved in recalls in 1996-2001, and a comparison of the number of recalled vehicles by the Alliance members with non-Alliance manufacturers, we extrapolated the Alliance-based numbers to estimate the number of documents that the non-Alliance manufacturers would have to report on each year. Third, the agency estimated the number of minutes per document that the manufacturers would spend determining what category a particular item belonged in and entering that data into their data systems. The agency assumed 5 minutes per document, except for foreign reports on deaths, which were assumed to take 15 minutes per document. Burden hours were determined by multiplying the minutes per document times the number of documents.

The total burden varied by manufacturer depending upon the number of documents that would have to be reviewed. Because the second group of manufacturers would be reporting so infrequently, we assumed that the report of each incident would be prepared manually, and that it would take four hours to determine what was required and to prepare the report. Thus, we estimated that the second group of manufacturers would spend 32 burden hours per year to report information on 8 incidents per year.

Estimate of the Total Annual Costs of the Collection of Information in the NPRM

The annual costs associated with the NPRM are estimated to be $88,580,141 in the first year and $1,721,877 in the second and third years. The average cost over the first three years would be $30,674,631. In the first year, start-up costs (including reprogramming computers) are estimated to be $65,300,000, the costs to report on historical information are estimated to be $21,558,264, and the costs to report on information for the first year are estimated to be $1,721,877.

The costs were estimated based on the factors discussed in the prior section, using estimates for the wage rates per hour for the skill levels for each type of activity that would be required. Wage rates, including overhead, were provided by the Alliance in a docket submission.

The total cost varied by manufacturer depending upon the number of documents that must be reviewed. Based on the assumptions described above, we estimated that the second group of manufacturers would spend $3,642 per year to report information on 8 incidents per year.

Summary Tables for Burdens and Costs Under the Requirements Proposed in the NPRM

The following tables show the burden hours and costs under the NPRM proposals by type of manufacturer. First year start-up burden/costs include computer start-up costs as well as the costs of gathering and reporting historical information. Total first year burden/costs can be calculated by adding the start-up burden/costs and the annual burden/costs.

Estimated Burden Hours Under the NPRM
| First year start-up | First year | Second year | Third year | Average for the first 3 years
Light Vehicles | 441,251 | 10,463 | 10,463 | 10,463 | 157,547
Medium/Heavy Vehicles | 254,432 | 1,440 | 1,440 | 1,440 | 86,251
Buses | 69,981 | 1,830 | 1,830 | 1,830 | 25,157
Trailers | 7,520 | 715 | 715 | 715 | 3,222
Motorcycles | 59,153 | 1,261 | 1,261 | 1,261 | 20,979
Tires | 52,186 | 1,189 | 1,189 | 1,189 | 18,584
Child Restraints | 54,440 | 1,111 | 1,111 | 1,111 | 19,258
Equipment Manufacturers | 0 | 20 | 20 | 20 | 20
Manufacturers with under 500 vehicle sales per year | 0 | 12 | 12 | 12 | 12
Total | 938,963 | 18,041 | 18,041 | 18,041 | 331,030

Estimated Costs Under the NPRM
| First year start-up | First year | Second year | Third year | Average for the first 3 years
Light Vehicles | $53,559,321 | $885,653 | $885,653 | $885,653 | $18,738,760
Medium/Heavy Vehicles | 12,744,973 | 153,203 | 153,203 | 153,203 | 4,401,527
Buses | 5,799,669 | 206,305 | 206,305 | 206,305 | 213,528
Trailers | 1,819,016 | 81,145 | 81,145 | 81,145 | 687,484
Motorcycles | 7,710,608 | 141,899 | 141,899 | 141,899 | 2,712,102
Tires | 2,046,836 | 127,203 | 127,203 | 127,203 | 809,482
Child Restraints | 3,177,531 | 122,781 | 122,781 | 122,781 | 1,181,958
Equipment Manufacturers | 193 | 2,305 | 2,305 | 2,305 | 2,369
Manufacturers with under 500 vehicle sales per year | 116 | 1,383 | 1,383 | 1,383 | 1,422
Total | 86,858,263 | 1,721,877 | 1,721,877 | 1,721,877 | 30,674,631

As stated above, the final rule implementing the early warning reporting requirements may be issued before the end of the 60-day comment period for this collection of information. If this should occur, it would be helpful if the public comments in response to this notice reflect the requirements adopted in the final rule. All comments will be taken into account in NHTSA's Supporting Statement to OMB (that accompanies OMB Form 83-I) to request clearance for this collection of information.

Authority: 44 U.S.C. 3506(c); delegations of authority at 49 CFR 1.50 and 501.3(c).

Issued on: June 19, 2002.
Kenneth N. Weinstein,
Associate Administrator for Safety Assurance.

[FR Doc. 02-15904 Filed 6-24-02; 8:45 am]

BILLING CODE 4910-59-P